DEPARTMENT OF THE INTERIOR

National Park Service

[NPS-WASO-NRNHL-DTS#-36484; PPWOCRADI0, PCU00RP14.R50000]

National Register of Historic Places; Notification of Pending Nominations and Related Actions

AGENCY: National Park Service, Interior.

ACTION: Notice.

SUMMARY: The National Park Service is soliciting electronic comments on the significance of properties nominated before August 19, 2023, for listing or related actions in the National Register of Historic Places.

DATES: Comments should be submitted electronically by September 15, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before August 19, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ARKANSAS

Ashley County

Ashley County Courthouse, 205 East Jefferson St., Hamburg, SG100009391

CALIFORNIA

Sacramento County

Montgomery Way Gateway Historic District, 2640-2770 Montgomery Way and 3065, 3071 East Curtis Dr., Sacramento, SG100009396

San Diego County

La Jolla Park Coastal Historic District, From intersection of Coast Walk with Torrey Pines Rd. and following Coast Walk, then Coast Blvd. southwest to its southernmost intersection with South Coast Blvd., La Jolla, SG100009395

Santa Barbara County

Mission La Purísima at 'Amuwu District, (Native Americans and the California Mission System, 1769-1848 MPS), 2295 Purisima Rd., Lompoc, MP100009394

LOUISIANA

Orleans Parish

Hollygrove Historic District, Roughly bounded by Airline Hwy., South Claiborne, South Carrollton, and Monticello Aves., New Orleans, SG100009397

MISSOURI

Greene County

Fallin Garage, (Springfield, Missouri MPS AD), 423 West Olive St., Springfield, MP100009384

SOUTH CAROLINA

Clarendon County

Pleasant Grove School, 1012 Joe and Marie Rd., Alcolu, SG100009383

Greenville County

Greenville Pepsi-Cola Bottling Plant, 705 Poinsett Hwy., Greenville vicinity, SG100009398

Union County

Sims High School, 200 Sims Dr., Union, SG100009382

TEXAS

Travis County

Austin Central Library, 800 Guadalupe St., Austin, SG100009378

St. Martin's Evangelical Lutheran Church, 606 West 15th St., Austin, SG100009392

An owner objection was received for the following resource:

CALIFORNIA

Santa Clara County

Alpha Omega Chapter of Sigma Chi Fraternity House, 550 Lasuen Mall, Stanford, SG100009388

Additional documentation has been received for the following resource:

WYOMING

Sweetwater County

Downtown Rock Springs Historic District, Roughly bounded by K, 4th, C, 2nd, A and 5th Sts., Rock Springs, AD93001492

Authority: Section 60.13 of 36 CFR part 60.

Dated: August 24, 2023.
Sherry A. Frear,
Chief, National Register of Historic Places/National Historic Landmarks Program.

[FR Doc. 2023-18878 Filed 8-30-23; 8:45 am]

BILLING CODE 4312-52-P